ENVIRONMENTAL PROTECTION AGENCY

[FRL OP-OFA-078]

Environmental Impact Statements; Notice of Availability

Responsible Agency: Office of Federal Activities, General Information 202-564-5632 or https://www.epa.gov/nepa.

Weekly receipt of Environmental Impact Statements (EIS)

Filed July 10, 2023 10 a.m. EST Through July 17, 2023 10 a.m. EST

Pursuant to 40 CFR 1506.9.

Notice

Section 309(a) of the Clean Air Act requires that EPA make public its comments on EISs issued by other Federal agencies. EPA's comment letters on EISs are available at: https://cdxapps.epa.gov/cdx-enepa-II/public/action/eis/search.

EIS No. 20230086, Revised Draft, USACE, LA, St. Tammany Parish, Louisiana Feasibility Study, Comment Period Ends: 09/06/2023, Contact: Sandra Stiles 504-862-1193.

EIS No. 20230087, Final, BOEM, RI, Revolution Wind Farm and Revolution Wind Export Cable Final Environmental Impact Statement, Review Period Ends: 08/21/2023, Contact: Jessica Stromberg 703-787-1730.

EIS No. 20230088, Final, BIA, ID, Nez Perce Tribe Integrated Resource Management Plan, Review Period Ends: 08/21/2023, Contact: Tobiah Mogavero 435-210-0509.

Dated: July 17, 2023.
Cindy S. Barger,
Director, NEPA Compliance Division, Office of Federal Activities.

[FR Doc. 2023-15500 Filed 7-20-23; 8:45 am]

BILLING CODE 6560-50-P